ENVIRONMENTAL PROTECTION AGENCY

[ER-FRL-6657-3]

Environmental Impact Statements; Notice of Availability

Responsible Agency: Office of Federal Activities, General Information (202) 564-7167 or http://www.epa.gov/compliance/nepa/.

Weekly receipt of Environmental Impact Statements

Filed October 25, 2004, through October 29, 2004,

Pursuant to 40 CFR 1506.9.

EIS No. 040504, Draft EIS, SFW, CA, Coachella Valley Multiple Species Habitat Conservation Plan (MSHCP), Santa Rosa and San Jacinto Mountains Trails Plan, Issuance of Incidental Take Permits, Riverside County, CA, Comment Period Ends: December 20, 2004, Contact: Julie Concannon (503) 231-6747.

EIS No. 040505, Draft EIS, USA, Battle Area Complex (BAX) and a Combined Arms Collective Training Facility (CACTF) Construction and Operation, U.S. Army Training Lands in Alaska, Comment Period Ends: December 20, 2004, Contact: Kevin Gardner (907) 384-3331.

EIS No. 040507, Final EIS, FAA, WV, Adoption-Aircraft Conversion for the 167th Air Wing (167 AW) of the West Virginia Air National Guard, converting C-130H Transport Aircraft to the Larges C-5 Transport Aircraft, Acquisition of Land via Lease, and Construction of Facilities on existing and acquired Parcel, Berkely County, WV, Contact: Andrew Brooks (718) 553-3356. Federal Aviation Administration has adopted the United States Air Force's #040347 filed 07-30-2004. FAA was a Cooperating Agency for the above final EIS. Recirculation of the document is not necessary under Section 1506.3(c) of the Council on Environmental Quality Regulations.

EIS No. 040508, Final EIS, FHW, UT, 11400 South Project, Proposed Improvement to the Transportation Network in the Southern Salt Lake Valley from 12300/12600 South to 10400/10600 South, and from Bangerter Highway to 700 East, Salt Lake City, Salt Lake County, UT, Wait Period Ends: December 20, 2004, Contact: Mike Morrow (801) 963-0078. Ext. 237.

EIS No. 040509, Final EIS, COE, LA, Programmatic EIS—Louisiana Coastal Area (LCA) Ecosystem Restoration Study, Implementation, Tentatively Selected Plan, Mississippi River, LA, Wait Period Ends: December 06, 2004, Contact: Dr. William Klein (504) 862-2540.

EIS No. 040510, Draft EIS, SFW, AK, Kodiak National Wildlife Refuges, Draft Revised Comprehensive Conservation Plan, Implementation, AK, Comment Period Ends: January 21, 2005, Contact: Mikel Haase (907) 786-3402.

EIS No. 040511, Draft EIS, CGD, CA, Cabrillo Port Liquefied Natural Gas (LNG) Deepwater Port, Construction and Operation an Offshore Floating Storage and Regasification Unit (FSRU), Application for License, Ventura and Los Angeles Counties, CA, Comment Period Ends: December 20, 2004, Contact: Ken Kusano (202) 267-1184.

Amended Notices

EIS No. 040412, Draft EIS, AFS, FL, Ocala National Forest Access Designation Process, Roads and Trail Systems Development, Implementation, Lake, Marion, and Putnam Counties, FL, Comment Period Ends: December 1, 2004, Contact: Will Ebaugh (850) 523-8557. Revision of Federal Register notice published on 09/03/04: CEQ Comment Period Ending 11/01/2004 has been Extended to 12/01/2004. Also, this document is available on the Internet at: http://www.fs.fed.us/r8/florida/news/OcalaDEiS.shtml.

EIS No. 040445, Final EIS, AFS, WY, ID, High Mountains Heli-Skiing (HMH) Project, Issuance of a New 5-Year Special Use Permit (SUP) To Continue Operating Guided Helicopter Skiing in Portions of the Bridger-Teton National Forest and Caribou-Targhee National Forest (CTNF), Teton and Lincoln Counties, WY and Teton and Bonneville Counties, ID, Wait Period Ends: October 25, 2004, Contact: Ray Spencer (307) 739-5400. Published FR-09-24-04—Retracted due to Noncompliance of Section 1506.9 of the Council on Environmental Quality Regulations.

EIS No. 040488, Final EIS, EPA, RI, MA, Rhode Island Region Long-Term Dredged Material Disposal Site Evaluation Project, Designation of One or More Long-Term Ocean Disposal Sites, RI and MA, Wait Period Ends: November 30, 2004, Contact: Olga Guza (617) 918-1542. Revision of Federal Register notice published on 10/22/2004: CEQ Comment Period Ending on 11/22/2004 has been Extended to 11/30/2004.

EIS No. 040491, Draft EIS, NIH, MA, National Emerging Infectious Diseases Laboratories, Construction of a National Biocontainment Laboratory, BioSquare Research Park, Boston University Medical Center Campus, Boston, MA, Comment Period Ends: January 3, 2005, Contact: Valerie Nottingham (301) 496-7775. Revision of Federal Register notice published on 10/22/2004: Correction to Contact Person Telephone Number.

Dated: November 2, 2004.
Robert W. Hargrove,
Director, NEPA Compliance Division, Office of Federal Activities.

[FR Doc. 04-24753 Filed 11-4-04; 8:45 am]

BILLING CODE 6560-50-P